DEPARTMENT OF ENERGY

Federal Energy Regulatory Commission

[Docket No. CP17-116-000]

Northern Natural Gas Company; Notice of Request Under Blanket Authorization

Take notice that on March 30, 2017, Northern Natural Gas Company. (“Northern”), 1111 South 103rd Street, Omaha, Nebraska 68124-1000, filed a prior notice application pursuant to sections 157.205, 157.210 and 157.216 of the Federal Energy Regulatory Commission's (Commission) regulations under the Natural Gas Act (NGA), and Northern's blanket certificate issued in Docket No. CP82-401-000. Northern requests authorization to: (1) Construct and operate two mainline pipeline extension segments totaling approximately 2.25 miles of its existing 30-inch and 36-inch-diameter pipelines and (2) abandon short segments of pipeline, all located in Dakota County, Minnesota, and Worth County, Iowa, all as more fully set forth in the request, which is on file with the Commission and open to public inspection. The proposed project is referred to as the Ventura North A-line Capacity Replacement Project (Project). The filing may also be viewed on the web at http://www.ferc.gov using the “eLibrary” link. Enter the docket number excluding the last three digits in the docket number field to access the document. For assistance, contact FERC at FERCOnlineSupport@ferc.gov or call toll-free, (866) 208-3676 or TTY, (202) 502-8659.

Specifically Northern proposes to: (1) Construct 1.24-mile extension of Northern's existing 30-inch-diameter D-line located in Sections 16, 21 and 22, Township 112 North, Range 20 West, Greenvale Township, Dakota County, Minnesota; (2) construct 1.01-mile extension of Northern's 36-inch-diameter E-line located in Sections 9 and 16, Township 100 North, Range 22 West, Silver Lake Township, Worth County, Iowa; (3) remove approximately 10 feet of 16-inch-diameter pipe; (4) remove approximately 80 feet of 30-inch-diameter pipe from the D-line in Dakota County, Minnesota; (5) remove approximately 10 feet of 12-inch-diameter pipe and (6) remove approximately 20 feet of 24-inch-diameter pipe from the E-line in Worth County, Iowa.

Any questions regarding this application should be directed to Dari R. Dornan Senior Counsel, Northern Natural Gas Company, P.O. Box 3330, Omaha, Nebraska 68103-0330 or phone (402) 398-7077, or by email at dari.dornan@nngco.com.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Pursuant to section 157.9 of the Commission's rules, 18 CFR 157.9, within 90 days of this Notice the Commission staff will either: Complete its environmental assessment (EA) and place it into the Commission's public record (eLibrary) for this proceeding, or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenter will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 5 copies of the protest or intervention to the Federal Energy Regulatory Commission, 888 First Street, NE., Washington, DC 20426.

Dated: April 10, 2017.
Kimberly D. Bose,
Secretary.

[FR Doc. 2017-07694 Filed 4-14-17; 8:45 am]

BILLING CODE 6717-01-P